OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 6.6 and 213.103.

FOR FURTHER INFORMATION CONTACT: M. Lamary, Group Manager, Executive Resources Services Group, Center for Human Resources, Division for Human Capital Leadership and Merit System Accountability, 202-606-2246.

SUPPLEMENTARY INFORMATION: Appearing in the listing below are the individual authorities established under Schedules A, B, and C between August 1, 2008, and August 31, 2008. Future notices will be published on the fourth Tuesday of each month, or as soon as possible thereafter. A consolidated listing of all authorities as of August 30 is published each year.

Schedule A

No Schedule A appointments were approved for August 2008.

Schedule B

No Schedule B appointments were approved for August 2008.

Schedule C

The following Schedule C appointments were approved during August 2008.

Section 213.3303 Executive Office of the President,Office of Management and Budget

BOGS80008 Legislative Assistant to the Associate Director for Legislative Affairs. Effective August 12, 2008.

Section 213.3304 Department of State

DSGS69753 Special Assistant to the Principal Deputy Assistant Secretary. Effective August 12, 2008.

Section 213.3305 Department of the Treasury

DYGS00504 Special Assistant to the Assistant Secretary for Financial Markets. Effective August 18, 2008.

DYGS00489 Operations Coordinator to the Director of Operations. Effective August 07, 2008.

Section 213.3306 Department of Defense

DDGS17168 Special Assistant to the Assistant Secretary of Defense (Legislative Affairs). Effective August 07, 2008.

DGS17171 Special Assistant to the Deputy Assistant Secretary of Defense (East Asia). Effective August 22, 2008.

Section 213.3308 Department of the Navy

DNGS05219 Confidential Assistant to the Assistant Secretary of the Navy (Financial Management and Comptroller). Effective August 07, 2008.

DNGS08232 Special Assistant to the Special Assistant to the Secretary. Effective August 13, 2008.

Section 213.3310 Department of Justice

DJGS00315 Senior Counsel to the Chief of Staff. Effective August 12, 2008.

DJGS00394 Counsel to the Chief of Staff. Effective August 12, 2008.

Section 213.3311 Department of Homeland Security

DMGS00623 Associate Director of Strategic Communications for Outreach to the Deputy Assistant Secretary for Public Affairs. Effective August 05, 2008.

Section 213.3314 Department of Commerce

DCGS60326 Confidential Assistant to the Deputy Assistant Secretary for Domestic Operations. Effective August 15, 2008.

DCGS00611 Special Assistant to the Director, Office of Legislative Affairs. Effective August 21, 2008.

DCGS00048 Confidential Assistant to the Legislative Affairs Specialist. Effective August 28, 2008.

DCGS00200 Special Assistant to the Assistant Secretary for Legislative and Intergovernmental Affairs. Effective August 28, 2008.

Section 213.3315 Department of Labor

DLGS60045 Staff Assistant to the Assistant Secretary for Public Affairs. Effective August 05, 2008.

DLGS60262 Special Assistant to the Assistant Secretary for Employment Standards. Effective August 20, 2008.

Section 213.3316 Department of Health and Human Services

DHGS60012 Special Assistant (Scheduling) to the Director of Scheduling. Effective August 05, 2008.

DHGS60485 Director of Communications to the Assistant Secretary, Health. Effective August 06, 2008.

DHGS60074 Special Assistant to the Assistant Secretary for Administration and Management. Effective August 12, 2008.

Section 213.3317 Department of Education

DBGS00415 Confidential Assistant to the Chief of Staff. Effective August 20, 2008.

Section 213.3318 Environmental Protection Agency

EPGS08001 Press Assistant to the Associate Administrator for Public Affairs. Effective August 05, 2008.

EPGS03600 Confidential Assistant to the Administrator. Effective August 29, 2008.

EPGS07015 Advance Specialist to the Deputy Chief of Staff (Operations). Effective August 29, 2008.

EPGS08007 Director of Operations to the Deputy Chief of Staff (Operations). Effective August 29, 2008.

Section 213.3323 Federal Communications Commission

FCGS08173 Special Assistant to the Chief of Staff. Effective August 15, 2008.

Section 213.3325 United State Tax Court

JCGS60080 Chambers Administrator to the Chief Judge. Effective August 01, 2008.

Section 213.3330 Securities and Exchange Commission

SEOT60007 Confidential Assistant to a Commissioner. Effective August 25, 2008.

SEOT60999 Confidential Assistant to the General Counsel. Effective August 27, 2008.

Section 213.3331 Department of Energy

DEGS00673 Senior Advisor to the Chief Operating Officer for Energy Efficiency and Renewable Energy. Effective August 01, 2008.

DEGS00674 Special Assistant to the Deputy Director. Effective August 08, 2008.

DEGS00675 Policy Advisor to the Under Secretary. Effective August 18, 2008.

DEGS00676 Press Secretary to the Director, Public Affairs. Effective August 26, 2008.

DEGS00677 Special Assistant to the Deputy Director. Effective August 29, 2008.

Section 213.3332 Small Business Administration

SBGS60170 Regional Administrator, Region VIII, Denver Colorado to the Associate Administrator for the Office of Field Operations. Effective August 12, 2008.

SBGS60189 Regional Administrator, Region 10, Seattle Washington to the Associate Administrator for the Office of Field Operations. Effective August 12, 2008.

SBGS00668 Senior Advisor to the Associate Administrator for Field Operations to the Associate Administrator for the Office of Field Operations. Effective August 27, 2008.

SBGS00669 Advisor to the Administrator. Effective August 27, 2008.

Section 213.3339 United States International Trade Commission

TCGS00013 Staff Assistant (Legal) to the Chairman. Effective August 25, 2008.

Section 213.3357 National Credit Union Administration

CUOT01324 Staff Assistant to the Director of Public and Congressional Affairs to the Chairman. Effective August 01, 2008.

CUOT00040 Senior Policy Advisor to the Chairman. Effective August 22, 2008.

Section 213.3373 Trade and Development Agency

TDGS00003 Executive Assistant to the Director. Effective August 18, 2008.

Section 213.3384 Department of Housing and Urban Development

DUGS60184 Deputy Assistant Secretary for Congressional Relations to the Assistant Secretary for Congressional and Intergovernmental Relations. Effective August 12, 2008.

DUGS60375 Staff Assistant to the Assistant Secretary for Congressional and Intergovernmental Relations. Effective August 22, 2008.

DUGS60153 Special Assistant to the President, Government National Mortgage Association. Effective August 25, 2008.

Section 213.3394 Department of Transportation

DTGS60094 Special Assistant to the Administrator. Effective August 05, 2008.

DTGS60274 Special Assistant for Public Affairs to the Assistant to the Secretary and Director of Public Affairs. Effective August 12, 2008.

Authority: 5 U.S.C. 3301 and 3302; E.O. 10577, 3 CFR 1954-1958 Comp., p. 218.

U.S. Office of Personnel Management.
Howard Weizmann,
Deputy Director.

[FR Doc. E8-23967 Filed 10-9-08; 8:45 am]

BILLING CODE 6325-39-P